DEPARTMENT OF HEALTH AND HUMAN SERVICES

National Institutes of Health

Center for Scientific Review; Amended Notice of Meeting

Notice is hereby given of a change in the meeting of the Center for Scientific Review Special Emphasis Panel, July 30, 2019, 10:00 a.m. to July 30, 2019, 07:00 p.m., National Institutes of Health, 6701 Rockledge Drive, Bethesda, MD 20892 which was published in the Federal Register on July 03, 2019, 84 FR 31879.

The meeting will be held on July 30, 2019 at 9:00 a.m. instead of 10:00 a.m. The meeting location remains the same. The meeting is closed to the public.

Dated: July 15, 2019.
Natasha M. Copeland,
Deputy Director, Office of Federal Advisory Committee Policy.

[FR Doc. 2019-15355 Filed 7-18-19; 8:45 am]

BILLING CODE 4140-01-P